DEPARTMENT OF TRANSPORTATION

Federal Aviation Administration

14 CFR Part 71

[Docket No. FAA-2006-23713; Airspace Docket No. 06-AAL-06]

Revision of Class E Airspace; Togiak Village, AK

AGENCY: Federal Aviation Administration (FAA), DOT.

ACTION: Final Rule; correction.

SUMMARY: This action corrects an error in the airspace description contained in a Final Rule that was published in the Federal Register on Monday, April 24, 2006 (71 FR 20871). Airspace Docket No. 06-AAL-06.

DATES: Effective Date: 0901 UTC, August 8, 2006.

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.alaska.faa.gov/at.

SUPPLEMENTARY INFORMATION:

History

Federal Register Document 06-3860, Airspace Docket No. 06-AAL-06, published on Monday, April 24, 2006 (71 FR 20871), revised Class E airspace at Arctic Village, AK. An error was discovered in the airspace description that misidentified the navigation aid location. The Non Directional Beacon location was listed at Latitude 59°03′50″ Longitude 160°22′27″. The correct Latitude should have read; Lat. 59°03′51″. This action corrects that error.

Correction to Final Rule

Accordingly, pursuant to the authority delegated to me, the airspace description of the Class E airspace published in the Federal Register, Monday, April 24, 2006 (71 FR 20871), (FR Doc 06-3860, page 20872, column 2) is corrected as follows:

§ 71.1 [Corrected]

* * * * *

AAL AK E5 Togiak Village, AK [Corrected]

Togiak Airport, AK

(Lat. 59°03′10″ N., long. 160°23′49″ W.)

Togiak NDB

(Lat. 59°03′51″ N., long. 160°22′27″ W.)

That airspace extending upward from 700 feet above the surface within a 6.5-mile radius of the Togiak Airport, and within 4 miles west and 8 miles east of the 218° bearing of the Togiak NDB extending from the 6.5-mile radius to 20 miles southwest of the Togiak NDB, and within 4 miles west and 8 miles east of the 019° bearing of the Togiak NDB extending from the 6.5-mile radius to 16 miles northeast of the Togiak NDB.

* * * * *

Issued in Anchorage, AK, on June 8, 2006.
Anthony M. Wylie,
Director, Flight Service Information Office (AK).

[FR Doc. 06-5513 Filed 6-16-06; 8:45 am]

BILLING CODE 4910-13-P